FEDERAL COMMUNICATIONS COMMISSION.

Notice of Public Information Collection Being Reviewed by the Federal Communications Commission for Extension Under Delegated Authority, Comments Requested

April 20, 2010.

SUMMARY: The Federal Communications Commission, as part of its continuing effort to reduce paperwork burden invites the general public and other Federal agencies to take this opportunity to comment on the following information collection, as required by the Paperwork Reduction Act (PRA) of 1995, 44 U.S.C. 3501 - 3520. Comments are requested concerning: (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology, and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before June 25, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via email to Nicholas_A._Fraser@omb.eop.gov and to the Federal Communications Commission via email to PRA@fcc.gov and Cathy.Williams@fcc.gov.

FOR FURTHER INFORMATION CONTACT: For additional information, contact Cathy Williams on (202) 418-2918.

SUPPLEMENTARY INFORMATION: OMB Control Number: 3060-1100.

Title: Section 15.117, TV Broadcast Receivers.

Form Number: N/A.

Type of Review: Extension of a currently approved collection.

Respondents: Business or other for-profit entities.

Number of Respondents and Responses: 1,000 respondents; 5,000 responses.

Frequency of Response: Third party disclosure requirement.

Estimated Time per Response: 0.25 (15 minutes).

Total Annual Burden: 1,250 hours.

Total Annual Cost: None.

Privacy Impact Assessment: No impact(s).

Obligation to Respond: Mandatory. The statutory authority for this information collection is contained in Sections 1, 2(a), 3(33), 3(52), 4(i), 4(j), 7, 301, 303(r), 303(s), 309, 336, 337 and 624 of the Communications Act of 1934, as amended.

Nature and Extent of Confidentiality: No need for confidentiality required with this collection of information.

Needs and Uses: As of the June 12, 2009 statutory digital television (DTV) transition deadline, all full-power television stations stopped broadcasting in analog and are broadcasting only digital signals. Section 15.117(k) of the Commission's rules requires sellers of TV sets (and other TV receiver equipment) that do not contain a digital tuner to disclose to consumers at the point-of-sale that such devices include only an analog tuner and, therefore, are not able to receive over-the-air TV broadcasts. (Consumers with analog-only television equipment are not able to receive an over-the-air broadcast signal unless they get a digital TV or a box to convert the digital signals to analog or subscribe to pay TV service, such as cable or satellite.) The Commission adopted this labeling (disclosure) requirement in 2007 to protect consumers by ensuring that they are made aware at the point-of-sale about the limitations of analog-only television receivers. Note that, while the Commission's rules prohibit the manufacture or import of television receivers that do not contain a digital tuner, the rules do not prohibit the sale of analog-only television equipment from inventory. For this reason, the Commission decided it was necessary to impose this requirement. Although the DTV transition deadline has passed, analog-only TV equipment remains available in the marketplace and this disclosure requirement, therefore, remains necessary to continue to protect consumers. Accordingly, the Commission is seeking an extension of this information collection.

Federal Communications Commission.
Marlene H. Dortch,
Secretary,
Office of the Secretary,
Office of Managing Director.

[FR Doc. 2010-9566 Filed 4-23-10; 8:45 am]

BILLING CODE: 6712-01-S